DEPARTMENT OF JUSTICE

Notice of Lodging of Consent Decree Under the Clean Air Act

Pursuant to 28 CFR 50.7, notice is hereby given that a proposed Consent Decree in United States and Robert G. Burnley, Director, Commmonwealth of Virginia Department of Environmental Quality v. Stone Container Corporation, Civil Action No. 3:04 CV 647 was lodged with the United States District Court for the Eastern District of Virginia on September 9, 2004. The Commonwealth of Virginia has filed a Complaint in Intervention and is a signatory to the proposed Consent Decree.

In its Complaint, the United States alleges Stone Container Corporation (“Stone Container”) and its predecessors violated the Clean Air Act, 42 U.S.C. § 7601 et seq., the regulations promulgated thereunder, and the requirements of the Virginia State Implementation Plan, at Stone Container's West Point, Virginia pulp and paper manufacturing facility (“West Point Facility”). The Commonwealth of Virginia Department of Environmental Quality (“Commonwealth”) filed a Motion for Leave to Intervene and a Complaint in Intervention, alleging the same violations. The proposed Consent Decree resolves Stone Container's liability to the United States and the Commonwealth for the violations alleged in the Complaints. The Consent Decree requires Stone Container to install air pollution control devices to control emissions of sulfur dioxide and nitrogen oxides from the West Point Facility. The Consent Decree also requires Stone Container to pay a civil penalty of $475,000 to the United States and $457,000 to the Commonwealth, and to comply with monitoring, recordkeeping, and reporting requirements.

The Department of Justice will receive comments relating to the Consent Decree for a period of thirty (30) days following the date of public of this Notice. Please address comments to the Assistant Attorney General, Environment and Natural Resources Division, PO Box 7611, U.S. Department of Justice, Washington, DC 20044-7611, and refer to United States and Robert G. Burnley, Director, Commonwealth of Virginia Department of Environmental Quality, DOJ No. 90-5-2-1-06526.

The Consent Decree may be examined at the Office of the United States Attorney for the Eastern District of Virginia, 600 East Main Street, Suite 1800, Richmond, VA 23219 and at U.S. EPA Region III, 1650 Arch Street, Philadelphia, PA 19103. During the public comment period, the Consent Decree, may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the U.S. Treasury.

Robert Brook,
Assistant Chief, Environmental Enforcement Section, Environment and Natural Resources Division.

[FR Doc. 04-21309 Filed 9-22-04; 8:45 am]

BILLING CODE 4410-15-M